DEPARTMENT OF AGRICULTURE

Forest Service

Fortine Timber Sales and Associated Activities; Kootenai National Forest, Lincoln County, MT

AGENCY: Forest Service, USDA.

ACTION: Notice of intent to prepare an environmental impact statement.

SUMMARY: The USDA, Forest Service, will prepare an Environmental Impact Statement (EIS) to disclose the environmental effects of timber harvest, prescribed fire, road management, and watershed rehabilitation in the Fortine Analysis Area on the Fortine Ranger District of the Kootenai National Forest. The Fortine Analysis Area is located approximately 30 air miles northeast of Libby, Montana, near the communities of Trego and Fortine, Montana.

Scoping Comment Date: Written comments and suggestions should be postmarked or received by February 24, 2003.

ADDRESSES: The Responsible Official is Edward C. Monnig, District Ranger, Fortine Ranger District, P.O. Box 116, Fortine, Montana, 59918. Written comments and suggestions concerning the scope of the analysis may be sent to him at that address.

FOR FURTHER INFORMATION CONTACT: Joleen Dunham, Project Leader, Fortine Ranger District. Phone: (406) 882-4451.

SUPPLEMENTARY INFORMATION: The Fortine Decision Area contains approximately 25,110 acres of land within the Kootenai National Forest in Lincoln County, Montana. The legal location of the Fortine Decision Area is as follows: all or portions of T33N, R26W; T32N, R26W; T32N, R27W; and T31N, R26W; PMM, Lincoln County, Montana. All of the proposed projects would occur on National Forest lands in the Upper Fortine drainage seven miles south of the town of Trego, Montana. All proposed activities are outside the boundaries of any roadless area or any areas considered for inclusion to the National Wilderness System as recommended by the Kootenai National Forest Plan or by any past or present legislative wilderness proposals.

The purpose and need for this project is to: (1) Manage forest ecosystems to improve forest health and provide habitat for plant and animal populations; (2) manage for stable stream channels, productive habitats for aquatic species, and water quality that meet or exceeds State of Montana water quality goals; (3) reduce existing and expected future fuel accumulations and the potential risk of high intensity wildland fire and subsequent risk to private property; (4) provide timber to support local, regional, and national needs; and (5) maintain and manage a cost effective, long-term road system that meets present and future resource management needs, increases security for wildlife, and insures safe access.

The Forest Service proposes to harvest timber through application of a variety of harvest methods on approximately 2358 acres of forestland within the Fortine Decision Area. Use of existing, temporary and permanent roads would be needed to access timber harvest areas. An estimated 0.75 miles of existing roads would be reconstructed in addition to 1.1 miles of new road construction to facilitate timber removal and improve access for resource management. The temporary road would be obliterated following completion of sale related activities. An additional 17 miles of road no longer needed for resource management, at this time, would be decommissioned by various methods, such as removal of culverts, recontouring, ripping and seeding, and installing barriers. The method of decommissioning would be selected for each road or portions of road on a site-specific basis. An estimated 2 miles of existing road would be restricted seasonally with 12 miles of existing road restricted year-round to reduce the potential loss of snags in old growth habitat, improve habit security for wildlife, and reduce sediment delivery to live streams. An estimated 11 miles of existing road would be restricted to reduce open road densities within and adjacent to designated old growth stands. More specifically management activities in this proposal include:

Regeneration Harvest: This harvest would leave approximately 20 large trees per acre, where feasible, to provide future snags and down woody material for wildlife habitat. A total of approximately 734 acres would be harvested through this method.

Intermediate Harvest: The following types of intermediate harvest are proposed: (1) Commercial thinning of condominate and subdominate trees while retaining a stocked stand of overstory trees on approximately 1522 acres; (2) harvest of post and pole sized lodgepole pine from approximately 71 acres; (3) salvage harvest on 31 acres would remove merchantable dead lodgepole pine while protecting desirable live trees in the stand.

Underburning: Underburning is proposed on approximately 179 acres outside harvest units to reduce fuel loads and reduce fire risk.

Roadside Fuel Reduction: Fuel reduction through slashing, hand piling and burning while maintaining the integrity of the stand is proposed within the first 100 feet of timber adjacent to open roads, on approximately 65 acres.

Burning of Natural Fuels and Slash: Burning of natural fuels and slash resulting from timber harvest is proposed on approximately 2358 acres.

Watershed/Fish Habitat Improvement: Watershed improvement projects include controlling cattle access to creeks, removing failed culverts, and applying best management practices on approximately 104 miles of existing road.

Range of Alternatives: The Forest Service will consider a range of alternatives. One of these will be the “no action” alternative in which none of the proposed activities would be implemented. Additional alternatives will examine varying levels and locations for the proposed activities to achieve the proposal's purposes, as well as to respond to the issues and other resource values.

Public Involvement and Scoping: In July 1999 preliminary efforts were made to involve the public in considering management opportunities within the Fortine Decision Area. Comments received prior to this notice will be included in the documentation for the EIS. This proposal includes openings greater than 40 acres, ranging from 46 to 60 acres. A 60 day public review period, and approval by the Regional Forester for exceeding the 40 acre limitation for regeneration harvest will occur prior to the signing of the Record of Decision. This 60 day period is initiated with this notice of intent.

Estimated Dates for Filing: The Draft EIS is expected to be filed with the Environmental Protection Agency (EPA) and available for public review by September 2003. At that time, EPA will publish a notice of availability of the Draft EIS in the Federal Register. The comment period on the Draft EIS will be a minimum of 45 days from the date the EPA publishes the notice of availability in the Federal Register. It is very important that those interested in the management of this area participate at that time.

The Final EIS is scheduled to be complete by December 2003. In the Final EIS, the Forest Service will respond to comments and responses received during the comment period that pertain to the environmental consequences discussed in the Draft EIS and applicable laws, regulations, and policies considered in making a decision regarding the proposal.

Reviewer's Obligations: The Forest Service believes it is important to give reviewers notice of several court rulings related to public participation in the environmental review process. First, reviewers of Draft EIS's must structure their participation in the environmental review of the proposal so that it is meaningful and alerts an agency to the reviewer's position and contentions. Vermont Yankee Nuclear Power Corp. v. NRDC, 435 U.S. 519, 553 (1978). Also, environmental objections that could be raised at the Draft EIS stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the Draft EIS 45 day comment period so that substantive comments and objections are made available to the Forest Service at a time when it can meaningfully consider and respond to them in the Final EIS.

To be most helpful, comments on the Draft EIS should be as specific as possible and may address the adequacy of the statement or the merit of the alternatives discussed. Reviewers may wish to refer to the Council on Environmental Quality regulations for implementing the procedural provisions of the National Environmental Policy Act at 40 CFR 1503.3 in addressing these points.

Responsible Official: Edward C. Monnig, District Ranger, Fortine Ranger District, Kootenai National Forest, P.O. Box 116, Fortine, Montana 59918, is the Responsible Official. As the Responsible Official, he will decide if the proposed project will be implemented and will document the decision and reasons for the decision in the Record of Decision. That decision will be subject to Forest Service Appeal Regulations.

Dated: January 9, 2003.
Greg Kujawa,
Acting Forest Supervisor, Kootenai National Forest.

[FR Doc. 03-1139 Filed 1-16-03; 8:45 am]

BILLING CODE 3410-11-M